DEPARTMENT OF HEALTH AND HUMAN SERVICES

Administration for Children and Families

[CFDA Number: 93.676]

Announcement of Intent To Issue Two Replacement Awards To Provide Residential Services (Shelter)

AGENCY: Office of Refugee Resettlement (ORR), Administration for Children and Families (ACF), Department of Health and Human Services (HHS).

ACTION: Notice of Issuance of Two Replacement Awards to BCFS Health and Human Services (BCFS).

SUMMARY: ACF, ORR announces the intent to award two Replacement Awards in the amount of up to $77,496,593 to BCFS Health and Human Services in Los Fresnos, Texas. On September 17, 2021, Comprehensive Health Services, LLC (CHS) relinquished two federally funded discretionary grants. Per HHS policy, ORR identified the current recipient BCFS Health and Human Services to transfer the current permanent capacity to provide shelter for apprehensions of Unaccompanied Children (UC) at the Southwest Border. The continuation of permanent capacity is a prudent step to ensure that ORR is able to meet its responsibility, by law, to provide shelter and appropriate services for UC referred to its care by the Department of Homeland Security. The purpose of this award is to ensure the continuation of residential services for the capacity of 560 shelter beds for UC.

DATES: The proposed period of performance is December 1, 2021-September 30, 2022.

FOR FURTHER INFORMATION CONTACT: Stephen Antkowiak, Office of Refugee Resettlement, Division of Unaccompanied Children Operations, 330 Street SW, Washington, DC 20447. Phone: 202-260-6165. Email: stephen.antkowiak@acf.hhs.gov.

SUPPLEMENTARY INFORMATION: ORR announces the intent to award the following replacement awards:

Original recipient | Recipient | Location (city, ST) | Award amount
CHS | BCFS Health and Human Services | Los Fresnos, TX | up to $24,262,279.
CHS | BCFS Health and Human Services | Los Fresnos, TX | Up to $53,234,314.

This award will prevent the disruption in residential services currently available at the two mentioned CHS locations and prevent children unnecessarily pending placement from Border Patrol. ORR has specific requirements for the provision of services. Award recipients must have the infrastructure, licensing if applicable, experience, and appropriate level of trained staff to meet those requirements.

Statutory Authority: This program is authorized by—

(A) Section 462 of the Homeland Security Act of 2002, which in March 2003, transferred responsibility for the care and custody of UC from the Commissioner of the former Immigration and Naturalization Service to the Director of ORR within HHS.

(B) The Flores Settlement Agreement, Case No. CV85-4544-RJK (C.D. Cal. 1996), as well as the William Wilberforce Trafficking Victims Protection Reauthorization Act of 2008 (Pub. L. 110-457), which authorizes post release services under certain conditions to eligible children. All programs must comply with the Flores Settlement Agreement, Case No. CV85-4544-RJK (C.D. Cal. 1996); pertinent regulations; and ORR policies and procedures.

Elizabeth Leo,
Senior Grants Policy Specialist, Office of Grants Policy, Office of Administration.

[FR Doc. 2021-25968 Filed 11-29-21; 8:45 am]

BILLING CODE 4184-45-P